NATIONAL SCIENCE FOUNDATION

Sunshine Act Meetings; National Science Board

The National Science Board's Committee on Strategy and Budget (CSB), pursuant to NSF regulations (45 CFR part 614), the National Science Foundation Act, as amended (42 U.S.C. 1862n-5), and the Government in the Sunshine Act (5 U.S.C. 552b), hereby gives notice of the CANCELLATION of a teleconference for the transaction of National Science Board business. The original notification appeared in the Federal Register on Monday, June 8, 2015 (80 FR 32412).

CANCELLED DATE AND TIME: Thursday, June 11, 2015 at 5:00-6:00 p.m. EDT.

This meeting will be rescheduled. Please refer to the National Science Board Web site www.nsf.gov/nsb/notices for additional information and a schedule update.

Ann Bushmiller,
Senior Counsel to the National Science Board.

[FR Doc. 2015-14752 Filed 6-11-15; 4:15 pm]

BILLING CODE 7555-01-P